DEPARTMENT OF HEALTH AND HUMAN SERVICES

National Institutes of Health

National Cancer Institute; Notice of Meeting

Pursuant to section 1009 of the Federal Advisory Committee Act, as amended, notice is hereby given of a meeting of the Frederick National Laboratory Advisory Committee to the National Cancer Institute.

The meeting will be held virtually and is open to the public. Individuals who plan to view the virtual meeting and need special assistance or other reasonable accommodations to view the meeting, should notify the Contact Person listed below in advance of the meeting. The meeting can be accessed from the NIH Videocast at the following link: https://videocast.nih.gov/.

Name of Committee: Frederick National Laboratory Advisory Committee to the National Cancer Institute.

Date: October 23, 2024.

Time: 9:00 a.m. to 5:00 p.m.

Agenda: On going and new activities at the Frederick National Laboratory for Cancer Research.

Place: NCI Shady Grove Conference Center, 9609 Medical Center Drive, Rockville, MD 20850 (Virtual Meeting).

Contact Person: Christopher D. Kane, Ph.D., Health Science Administrator and Program Officer, Office of Scientific Operations, Frederick Office of Scientific Operations, National Cancer Institute, NIH, 1050 Boyles Street, Building 427, Room 4, Frederick, MD 20872, christopher.kane@nih.gov.

Any interested person may file written comments with the committee by forwarding the statement to the Contact Person listed on this notice. The statement should include the name, address, telephone number and when applicable, the business or professional affiliation of the interested person.

Information is also available on the Institute's/Center's home page: FNLAC: https://deainfo.nci.nih.gov/advisory/fac/fac.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: September 25, 2024.
David W. Freeman,
Supervisory Program Analyst, Office of Federal Advisory Committee Policy.

[FR Doc. 2024-22438 Filed 9-30-24; 8:45 am]

BILLING CODE 4140-01-P